DEPARTMENT OF HOMELAND SECURITY

Coast Guard

33 CFR Part 117

[Docket No. USCG-2018-0147]

Drawbridge Operation Regulation; Nanticoke River, Seaford, DE

AGENCY: Coast Guard, DHS.

ACTION: Notice of deviation from drawbridge regulation.

SUMMARY: The Coast Guard has issued a temporary deviation from the operating schedule that governs the SR 13 (Market Street) Bridge across Nanticoke River, mile 39.6, in Seaford, DE. The deviation is necessary to facilitate placement of an emergency temporary public water line on the bridge. This deviation allows the bridge to remain in the closed-to-navigation position.

DATES: This deviation is effective without actual notice from March 5, 2018 through noon on March 23, 2018. For purposes of enforcement, actual notice will be used from noon on February 9, 2018, until March 5, 2018.

ADDRESSES: The docket for this deviation, [USCG-2018-0147] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: The Delaware Department of Transportation, who owns and operates the SR 13 (Market Street) Bridge across Nanticoke River, mile 39.6, in Seaford, DE, has requested a temporary deviation from the current operating regulation. This deviation is necessary to facilitate placement of an emergency temporary public water line on the bridge due to contamination of the town of Blades, DE water system. The bridge is a bascule bridge and has a vertical clearance in the closed-to-navigation position of 3 feet above mean high water.

The current operating schedule is set out in 33 CFR 117.243(b). Under this temporary deviation, the bridge will remain in the closed-to-navigation position from noon on February 9, 2018, through noon on March 23, 2018. The Nanticoke River in the location of the bridge is predominantly used by small recreational vessels. The bridge has an average of one or two bridge openings per month during the time period of this temporary deviation. The Coast Guard has carefully considered the nature and volume of vessel traffic on the waterway, in relation to the emergency management purpose for maintaining the bridge in the closed-to-navigation position, in publishing this temporary deviation.

Vessels able to pass through the bridge in the closed-to-navigation position may do so at any time. The bridge will not be able to open for an emergency and there is no immediate alternate route for vessels to pass. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: February 22, 2018.
Hal R. Pitts,
Bridge Program Manager, Fifth Coast Guard District.

[FR Doc. 2018-04342 Filed 3-2-18; 8:45 am]

BILLING CODE 9110-04-P